DEPARTMENT OF HOMELAND SECURITY

Federal Emergency Management Agency

[Docket ID: FEMA-2013-0053; OMB No. 1660-0036]

Agency Information Collection Activities: Submission for OMB Review; Comment Request; Federal Emergency Management Agency Individual Assistance Customer Satisfaction Surveys

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 31, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Federal Emergency Management Agency Individual Assistance Customer Satisfaction Surveys.

Type of information collection: Revision of a currently approved information collection.

Form Titles and Numbers: FEMA Form 007-0-7, Disaster Recover Center Survey; FEMA Form 007-0-3, Registration Survey; FEMA Form 007-0-5, Helpline/Contact Survey; FEMA Form 007-0-6, Casework Survey; FEMA Form 007-0-2, Internet Registration Survey; FEMA Form 007-0-2INT, Internet Registration Survey; FEMA Form 007-0-19, Internet Registration Survey; FEMA Form 007-019INT, Internet Inquire Survey; FEMA Form 007-0-4, Direct Housing Operations Survey-Move In; FEMA Form 007-0-21, Direct Housing Operations Survey-Maintenance; FEMA Form 007-0-22, Direct Housing Operations Survey-Move Out.

Abstract: Federal agencies are required to survey their customers to determine the kind and quality of services customers want and their level of satisfaction with those services. FEMA managers use the survey results to measure performance against standards for performance and customer service, measure achievement of strategic planning objectives, and generally gauge and make improvements to disaster service that increase customer satisfaction.

Affected Public: Individuals and Households.

Estimated Number of Respondents: 66,779.

Estimated Total Annual Burden Hours: 9,781.

Estimated Cost: The estimated cost to respondents for annual Non-Labor Cost for travel to Focus Groups is based on U.S. General Services Administration (GSA) mileage rate for Privately Owned Vehicles (POV) effective January 1, 2013. The burden estimated cost for traveling is $24,408.00.

Dated: February 21, 2014.
Charlene D. Myrthil,
Director, Records Management Division, Mission Support Bureau, Federal Emergency Management Agency, Department of Homeland Security.

[FR Doc. 2014-04419 Filed 2-27-14; 8:45 am]

BILLING CODE 9111-23-P